DEPARTMENT OF TRANSPORTATION

Research and Special Programs Administration

Office of Hazardous Materials Safety; Notice of Application for Exemptions

AGENCY: Research and Special Programs Administration, DOT

ACTION: List of Applicants for Exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor Vehicle, 2—Rail freight, 3—Cargo vessel, 4—Cargo aircraft only, 5—Passenger-carrying aircraft.

DATES: Comments must be received on or before March 30, 2000.

ADDRESSES COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION: Copies of the applications (See Docket Number) are available for inspection at the New Docket Management Facility, PL-401, at the U.S. Department of Transportation, Nassif building, 400 7th Street, SW. Washington, DC 20590 or at http://dms.dot.gov.

This notice of receipt of applications for new exemptions is published in accordance with Part 107 of the Federal hazardous materials transportation law (49 U.S.C. 5117(b); 49 CFR 1.53(b)).

Issued in Washington, DC, on February 23, 2000.
J. Suzanne Hedgepeth,
Director, Office of Hazardous Materials Exemptions and Approvals.

New Exemptions
Application No. | Docket No. | Applicant | Regulation(s) affected | Nature of exemption thereof
12413-N | RSPA-2000-6912 | CP Industries, Inc., McKeesport, PA | 49 CFR 17.34(e)(3), 173.302(c)(2), 173.302(c)(3), 173.302(c)(4), 173.302(c)(5), 173.334(e), 173.334(e)(1)(i) & (ii), 173.334(e)(4), 173.334(e)(5), 173.334(e)(6), 173.334(e)(7) | To authorize acoustic emission and ultrasonic retest of DOT-3AA, 3AAX or 3T cylinders for use in transporting presently authorized hazardous materials. (Modes 1, 2, 3, 4.)
12414-N | RSPA-2000-6813 | Med-Flex, Inc., Mt. Holly, NJ | 49 CFR 173.134 | To authorize the transportation in commerce of solid regulated medical waste in non-DOT specification packaging consisting of a bulk outer packaging and non-bulk inner packagings. (Mode 1.)
12415-N | RSPA-2000-6914 | Canberra Industries, Meriden, CT | 49 CFR 172, 173.302, 175.3 | To authorize the manufacture, mark, sale and use of non-DOT specification containers described as hermetically-sealed electron tube devices for use in transporting various Division 2.2 material. (Modes 1, 2, 3, 4, 5.)
12422-N | RSPA-2000-6918 | Connecticut Yankee Atomic Power Co., East Hampton, CT | 49 CFR 173.403, 173.427(b)(1) | To authorize the transportation in commerce of a specially designed device for use in transporting radioactive material, Class 8. (Modes 1, 2.)
12423-N | RSPA-2000-6920 | Reagent Chemical & Research, Inc., Houston, TX | 49 CFR 179.13 | To authorize the transportation in commerce of DOT 111A100W5 tank cars that exceed the authorized load capacity for use in transporting hydrochloric acid, Class 8. (Mode 2.)
12424-N | RSPA-2000-6919 | PEMAC Aviation Supply, Inc., Valenica, CA | 49 CFR 178.55 | To authorize the manufacture, marking and sale of a specially designed device equipped with a DOT 4B240ET cylinder for use in transporting nonflammable compressed gas, Division 2.2. (Modes 1, 2, 3, 4, 5.)
12427-N | RSPA-2000-6963 | Chubb Fire Ltd., England | 49 CFR 173.301(j) | To authorize the transportation in commerce of non-DOT specification cylinders for use in transporting non-flammable compressed gas, Division 2.2. to UL facility for testing. (Mode 4.)
12429-N | RSPA-2000-6973 | National Aeronautics & Space Administration (NASA), Washington, DC | 49 CFR 173.309 | To authorize the transportation of flight certified, cylindrical portable fire extinguishers as part of a specially designed device for the Space Station Program. (Mode 1.)

[FR Doc. 00-4741 Filed 2-28-00; 8:45 am]

BILLING CODE 4910-60-M